DEPARTMENT OF COMMERCE

Foreign-Trade Zones Board

[B-20-2019]

Foreign-Trade Zone (FTZ) 168—Dallas/Fort Worth, Texas; Authorization of Production Activity, Samsung Electronics America, Inc., (Packaging for Mobiles and Tablets), Coppell, Texas

On March 29, 2019, Metroplex International Trade Development Corporation, grantee of FTZ 168, submitted a notification of proposed production activity to the FTZ Board on behalf of Samsung Electronics America, Inc., within FTZ 168, in Coppell, Texas.

The notification was processed in accordance with the regulations of the FTZ Board (15 CFR part 400), including notice in the Federal Register inviting public comment (84 FR 13631, April 5, 2019). On July 29, 2019, the applicant was notified of the FTZ Board's decision that no further review of the activity is warranted at this time. The production activity described in the notification was authorized, subject to the FTZ Act and the FTZ Board's regulations, including Section 400.14.

Dated: July 29, 2019.
Elizabeth Whiteman,
Acting Executive Secretary.

[FR Doc. 2019-16418 Filed 7-31-19; 8:45 am]

BILLING CODE 3510-DS-P